DEPARTMENT OF COMMERCE

Census Bureau

Survey of Plant Capacity Utilization

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 9, 2006.

ADDRESSES: Direct all written comments to Diana Hynek, Departmental Paperwork Clearance Officer, Department of Commerce, Room 6625, 14th and Constitution Avenue, NW., Washington, DC 20233 (or via the Internet at dhynek@doc.gov).

FOR FURTHER INFORMATION CONTACT: Requests for additional information or copies of the information collection instrument and instructions should be directed to Julius Smith Jr., U.S. Census Bureau, Room 2135 FOB-4, Washington, DC 20233, (301) 763-4683 (or via the Internet at julius.smith.jr@census.gov).

SUPPLEMENTARY INFORMATION:

I. Abstract

The Census Bureau plans to revise the current OMB clearance to add a quarterly version of the Survey of Plant Capacity Utilization (SPCU). The SPCU is currently conducted annually, collecting data for fourth quarter operations. The annual survey collects, from manufacturing plants and publishers, the value of actual production and the value of production that could have been achieved if operating at “full production” and “emergency production” levels. The survey also collects data on work patterns by shift. These data include hours in operation, production workers, and plant hours worked. This annual survey will not change, it will continue to collect fourth quarter data.

The quarterly SPCU, form MQ-C2 will collect a subset of the annual survey for the first, second and third quarters. These data include actual and full production estimates as well as work pattern data for days of the week in operation, hours per week in operation, weeks in operation during the quarter and production workers. The primary user of these data will be the Federal Reserve Board (FRB). The FRB has already expressed an interest in these data and will use them in several ways. First, the capital workweek data will be used as an indicator of capital use in the estimation of monthly output (industrial production). Second, the workweek data will also be used to improve the projections of labor productivity that are used to align industrial production (IP) with comprehensive benchmark information in the Economic Census covering the Manufacturing sector and Annual Survey of Manufactures. Third, the utilization rate data will assist in the assessment of recent changes in IP, as most of the high-frequency movement in utilization rates reflect production changes rather than capacity changes.

II. Method of Collection

The Census Bureau will use mail out/mail back survey forms to collect the data. For the quarterly survey, we will also offer an electronic version of the form that the respondents can respond to via the Internet. Companies will be asked to respond within 30 days of the initial mailing. This due date will be imprinted at the top of the form. Letters encouraging participation will be mailed to companies that have not responded by the designated time.

III. Data

OMB Number: 0607-0175.

Form Number: MQ-C1 and MQ-C2.

Type of Review: Regular.

Affected Public: Manufacturing and publishing plants.

Estimated Number of Respondents: For the MQ-C2 (quarters one through three), the number of respondents will be approximately 6,000. For the MQ-C1 (the fourth quarter), the number of respondents will remain at 17,000.

Estimated Time Per Response: The estimated time per response is 1.5 hours for form MQ-C2 and 2.25 hours for form MQ-C1.

Estimated Total Annual Burden Hours: Total annual burden hours for form MQ-C2 is 27,000, and for form MQ-C1, it remains 38,250. The total burden is 62,250.

Estimated Total Annual Cost: $1,202,558.

Respondents Obligation: Response to the quarterly form, MQ-C2 will be voluntary and response to the annual form, MQ-C1 will remain mandatory.

Legal Authority: These surveys are conducted under the authority of Title 13 U.S. Code, sections 182, 224 and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 4, 2006.
Madeleine Clayton,
Management Analyst, Office of the Chief Information Officer.

[FR Doc. E6-5155 Filed 4-7-06; 8:45 am]

BILLING CODE 3510-07-P